DEPARTMENT OF ENERGY

Federal Energy Regulatory Commission

[Docket No. RP02-210-000]

Questar Pipeline Company; Notice of Tariff Filing

April 8, 2002.

Take notice that on March 27, 2002, Questar Pipeline Company (Questar) tendered for filing as part of its FERC Gas Tariff, First Revised Volume No. 1, the tariff sheets listed on the filing, to be effective May 1, 2002.

Questar is proposing to initiate a new park and loan service that will provide customers with the ability to park and loan gas on a firm basis.

The proposed Park and Loan Rate Schedule PAL1 will apply to gas that is nominated to shippers' parking account or received for loan from Questar at Clay Basin. Park service will consist of Questar (1) accepting delivery of scheduled receipts into shippers' PAL1 account at Clay Basin; (2) holding the scheduled quantity of parked gas in its account and (3) making parked gas quantities available for scheduled delivery from Clay Basin as provided by Rate Schedule PAL1. Loan service will consist of Questar (1) making loaned gas quantities available for scheduled delivery from Clay Basin and (2) accepting delivery of scheduled receipts as a return of previously loaned gas to Clay Basin, subject to the conditions as provided by Rate Schedule PAL1.

Questar states that a copy of this filing has been served upon its customers, the Public Service Commission of Utah, and the Public Service Commission of Wyoming.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-9042 Filed 4-12-02; 8:45 am]

BILLING CODE 6717-01-P